DEPARTMENT OF TRANSPORTATION

Surface Transportation Board

Release of Waybill Data

The Surface Transportation Board has received a request from the State of North Dakota (WB456—1/5/04), for permission to access data from the Board's Carload Waybill Samples beyond the scope of waybill information that the State may usually obtain. A copy of the request may be obtained from the Office of Economics, Environmental Analysis, and Administration.

The requested information from the waybill sample contains confidential railroad and shipper data; therefore, if any parties object to this request, they should file their objections with the Director of the Board's Office of Economics, Environmental Analysis, and Administration, within 14 calendar days of the date of this notice. The rules for release of waybill data are codified at 49 CFR 1244.9.

FOR FURTHER INFORMATION CONTACT: Mac Frampton, (202) 565-1541.

Vernon A. Williams,
Secretary.

[FR Doc. 04-1197 Filed 1-21-04; 8:45 am]

BILLING CODE 4915-00-P